DEPARTMENT OF ENERGY

Federal Energy Regulatory Commission

[Project No. 10256-003]

City of Tacoma, Department of Public Utilities, Light Division, TPU Water Division; Notice of Transfer of Exemption

1. On August 19, 2022, City of Tacoma, Department of Public Utilities, Light Division (City of Tacoma) exemptee for the 850-Kilowatt Hood Street Hydroelectric Project No. 10256, filed a letter notifying the Commission that the project was transferred from City of Tacoma to TPU Water Division. The exemption from licensing was originally issued on August 17, 1987.¹ The project is located on the Tacoma Water Transmission System in Pierce County, Washington. The transfer of an exemption does not require Commission approval.

¹ City of Tacoma, Department of Public Utilities, Light Division, 40 FERC ¶ 62,181 (1987).

2. TPU Water Division is now the exemptee of the Hood Street Hydroelectric Project No. 10256. All correspondence must be forwarded to Mr. Travis Nelson, TPU Water Division, (d.b.a.—Tacoma Water), 3628 S 35th Street, Tacoma, WA 98409, Phone: (253) 579-4082, Email: TNelson1@cityoftacoma.org.

Dated: September 12, 2022.
Kimberly D. Bose,
Secretary.

[FR Doc. 2022-20066 Filed 9-15-22; 8:45 am]

BILLING CODE 6717-01-P